LEGAL SERVICES CORPORATION

Sunshine Act Meetings of the Board of Directors and One of its Committees; Amended Notice: Technical Correction to the Agenda; Board of Directors Meeting

Notice: The Legal Services Corporation (LSC) is announcing an amendment to the notice of the March 24, 2008 meeting of the Board of Directors, the second of two meetings being held on that date. The amendment is being made to reflect a technical correction to the meeting Agenda of the Board of Directors. There are no other changes to the original notice.

Specifically, the following correction has been made to the Board of Directors meeting agenda.

• The language at item 3 of the agenda of the Board of Directors has been corrected to read: “Consider and act on LSC Code of Ethics and Conduct and designation of Ethics Officer(s)” [Emphasis added.]

Meeting Schedule ¹
Monday, March 24, 2008 | Time
1. 2008 Ad Hoc Committee | 4:30 p.m.
2. Board of Directors | (Follows Immediately.).
¹ Please note that the times in this notice are Eastern Daylight Saving Time.

Location: 3333 K Street, NW., Washington, DC 20007, 3rd Floor Conference Center.

Status of Meetings: Open. Directors will participate by telephone conference in such a manner as to enable interested members of the public to hear and identify all persons participating in the meeting. Members of the public wishing to observe the meeting may do so by joining participating staff at the location indicated above. Members of the public wishing to listen to the meeting by telephone should call 1-800-857-4830 and enter 34309 on the key pad when prompted. To enhance the quality of your listening experience as well as that of others, and to eliminate background noises that interfere with the audio recording of the proceeding, please mute your telephone during the meeting.

Amended Agenda

Board of Directors

Matters to be Considered:

1. Report of 2008 Ad Hoc Committee.

2. Consider and act on recommendations of the 2008 Ad Hoc Committee.

3. Consider and act on LSC Code of Ethics and Conduct and designation of Ethics Officer(s).

4. Consider and act on dissolution of 2007 Search Committee for LSC Inspector General.

5. Consider and act on other business.

6. Consider and act on motion to adjourn the meeting.

CONTACT PERSON FOR INFORMATION: Patricia D. Batie, Manager of Board Operations, at (202) 295-1500.

Special Needs: Upon request, meeting notices will be made available in alternate formats to accommodate visual and hearing impairments. Individuals who have a disability and need an accommodation to attend the meeting may notify Patricia D. Batie, at (202) 295-1500.

Dated: March 14, 2008.
Victor M. Fortuno,
Vice President, General Counsel & Corporate Secretary.

[FR Doc. 08-1056 Filed 3-14-08; 2:41 pm]

BILLING CODE 7050-01-P